POSTAL RATE COMMISSION

Sunshine Act Meetings

AGENCY: Postal Rate Commission.

TIME AND DATE: August 11, 2004 at 9:30 a.m.

PLACE: Commission conference room, Postal Rate Commission, 1333 H Street, NW., Suite 300, Washington, DC 20268-0001.

STATUS: Open.

MATTERS TO BE CONSIDERED: Item No. 1: Discussion and vote on the Postal Rate Commission's fiscal year 2005 budget; item No. 2: Selection of vice chairman.

CONTACT PERSON FOR MORE INFORMATION: Stephen L. Sharfman, General Counsel, 202-789-6818 or sharfmans@prc.gov.

Dated: August 3, 2004.
Steven W. Williams,
Secretary.

[FR Doc. 04-18157 Filed 8-5-04; 8:45 am]

BILLING CODE 7710-FW-M